ENVIRONMENTAL PROTECTION AGENCY

[OPP-2004-0151; FRL-7363-4]

Notice of Receipt of Requests for Amendments to Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective on December 27, 2004, or July 30, 2004, for product registrations 000100-00579, 000100-00786, 000264-00316, 000264-00333, 000264-00349, 000264-00453, 000264-00482, 000264-00524, 000264-00526, 000264-00532, 000264-00689, 000769-00954, 005905-00496, 005905-00502, 005905-00510, 011685-00013, 011685-00014, 028293-00237, 033955-00462, and 04000-00058, unless the Agency receives a written withdrawal request on or before applicable dates given above.

Users of these products who desire continued use on crops or sites being deleted should contact the applicable registrant on or before dates given above.

ADDRESSES: Written withdrawal requests may be submitted electronically, by mail, or through hand delivery/courier. Follow the detailed instructions as provided in Unit I. of the SUPPLEMENTARY INFORMATION. To ensure proper receipt by EPA, it is imperative that you identify docket ID number OPP-2004-0151 in the subject line on the first page of your response.

FOR FURTHER INFORMATION CONTACT: James A. Hollins, Information Resources and Services Division (7502C), Office of Pesticide Programs, Environmental Protection Agency, 1200 Pennsylvania Ave., NW., Washington, DC 20460-0001; telephone number: (703) 305-5761; e-mail address: hollins.james@epa.gov.

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2004-0151. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Written Withdrawal Requests?

1. Electronically—i. E-mail. E-mail your written withdrawal requests to: James A. Hollins at hollins.james@epa.gov, Attention: Docket ID Number OPP-2004-0151.

ii. Disk or CD ROM. Written withdrawal requests on disk or CD ROM may be mailed to the address in Unit I.C.2. or delivered by hand or courier to the address in Unit I.C.3., Attention: Docket ID Number OPP-2004-0151. These electronic submissions will be accepted in WordPerfect or ASCII file format. Avoid the use of special characters and any form of encryption.

2. By mail. Send your written withdrawal requests to: James A. Hollins, Information Resources and Services Division (7502C), Office of Pesticide Programs, Environmental Protection Agency, 1200 Pennsylvania Ave., NW., Washington, DC 20460-0001, Attention: Docket ID Number OPP-2004-0151.

3. By hand delivery or courier. Deliver your written withdrawal requests to: Public Information and Records Integrity Branch (PIRIB), Office of Pesticide Programs (OPP), Environmental Protection Agency, Rm. 119, Crystal Mall #2, 1801 S. Bell St., Arlington, VA, Attention: Docket ID Number OPP-2004-0151. Such deliveries are only accepted during the docket's normal hours of operation as identified in Unit I.B.1.

II. What Action is the Agency Taking?

This notice announces receipt by the Agency of applications from registrants to delete uses in certain pesticide registrations. These registrations are listed in Table 1 of this unit by registration number, product name/active ingredient, and specific uses deleted:

Table 1.—Registrations With Requests for Amendments to Delete Uses in Certain Pesticide Registrations
Registration no. | Product Name | Active Ingredient | Delete From Label
000100-00579 | Ametryn Technical | Ametryn | Uses in bananas (and plantains) and noncrop areas
000100-00786 | Evik DF Herbicide | Ametryn | Uses in bananas (and plantains) and noncrop areas
000264-00316 | SEVIN Brand 80S Carbaryl Insecticide | Carbaryl | Use on poultry
000264-00333 | SEVIN Brand XLR PLUS Carbaryl Insecticide | Carbaryl | Use on poultry
000264-00349 | SEVIN Brand 4F Carbaryl Insecticide | Carbaryl | Use on poultry
000264-00453 | Rovral Fungicide | Iprodione | Use on blueberries
000264-00482 | Rovral Brand 4 Flowable Fungicide | Iprodione | Use on blueberries
000264-00524 | Rovral Brand WG Fungicide | Iprodione | Use on blueberries
000264-00526 | SEVIN Brand 80WSP Carbaryl Insecticide | Carbaryl | Use on poultry
000264-00532 | Rovral 50 SP Fungicide | Iprodione | Use on blueberries
000264-00689 | Rovral Brand75 WG Fungicide | Iprodione | Use on blueberries
000769-00689 | SMCP Diazinon AG500 | Diazinon | Use on almonds
000769-00954 | AllPro Diazinon 50WP Insecticide | Diazinon | Use on almonds
001022-00543 | Chapcide 4-EC | Chlorpyrifos | Use on wood chips
002382-00180 | Zema Pyrethrins Powder | Piperonyl butoxide; pyrethrins | Vegetable crops, ornamentals, non-food areas, food areas and food handling establishments
002935-00511 | L.V.4 | 2,4-D, 2-ethylhexyl ester | Use in drainage ditchbanks
004000-00058 | Flying Insect Killer | Resmethrin; d-trans allethrin | Food handling claims
005905-00496 | 1.5LB Benfluralin EC | Benfluralin | Use on peanuts and tobacco
005905-00502 | Weed Rhap A4-MCPA | MCPA, diethylamine salt | Use on rice
005905-00510 | MCPA Sodium Salt | MCPA | Use on rice
010163-00061 | Prokil Malathion 25-WP | Malathion | Vegetable crops, pasture, rangeland, small grains, cotton, apricots, cherry, citrus, grapes, peach, plums/prunes, blueberries, cole crop, alfalfa, clover, grass
011685-00013 | Nufarm MCPA Acid Technical | MCPA | Use on rice
011685-00014 | Nufarm MCPA Technical Acid | MCPA | Use on rice
028293-00237 | Unicorn Carbaryl Insecticide 5% Dust | Carbaryl | Use on poultry and poultry houses
033955-00462 | Acme Sevin 5% Dura-Dust | Carbaryl | Use on poultry
035935-00008 | Nufarm MCPA Technical Acid | MCPA | Use on rice
035935-00009 | Nufarm MCPA Acid | MCPA | Use on rice
037425-00021 | Adams Animal Repellent Concentrate | Piperonyl butoxide; pyrethrins; permethrin | Kennel and yard uses
051036-00287 | Permethrin 3.2 TC | Permethrin | Use directions for livestock
071532-00001 | LG Permethrin Technical Insecticide | Permethrin | Use for mosquito and biting fly control

Users of these products who desire continued use on crops or sites being deleted should contact the applicable registrant before applicable dates indicated in the DATES section of this notice to discuss withdrawal of the application for amendment. This 30 or 180-day period will also permit interested members of the public to intercede with registrants prior to the Agency's approval of the deletion.

Table 2 of this unit includes the names and addresses of record for all registrants of the products in Table 1 of this unit, in sequence by EPA company number.

Table 2.—Registrants Requesting Amendments to Delete Uses in Certain Pesticide Registrations
EPA Company No. | Company Name and Address
000100 | Syngenta Crop Protection, Inc., Attn: Regulatory Affairs, P.O. Box 18300, Greensboro, NC 27419-8300
000264 | Bayer CropScience LP, 2 T.W. Alexander Drive, Research Triangle Park, NC 27709
000769 | Value Gardens Supply, LLC, P.O. Box 585, St. Joseph, MO 64502
001022 | IBC Manufacturing Co., c/o Gail Early, 416 E. Brooks Road, Memphis, TN 38109
002382 | Virbac AH Inc., Joseph E. Dyer - Regulatory Agent, 3200 Meacham Blvd., Forth Worth, TX 76137
002935 | Wilbur Ellis Co., P.O. Box 1286, Fresno, CA 93715
004000 | Southern Chemical Products, Co., Subsidiary of Carroll Co., 2900 West Kingsley Road, Garland, TX 75041
005905 | Helena Chemical Co., 225 Schilling Blvd., Suite 300, Collierville, TN 38017
010163 | Gowan Co., P.O. Box 5569, Yuma, AZ 85366-5569
011685 | Nufarm Americas, Inc., SJM Div. Agent for: Nufarm UK Limited, 2300 Frederick Avenue, Suite 208, St. Joseph, MO 64504
028293 | Unicorn Laboratories, 12385 Automobile Blvd., Clearwater, FL 33762
033955 | PBI/Gordon Corp, Attn: Craig Martens, P.O. Box 014090, Kansas, MO 64101
035935 | Nufarm Americas, Inc., SJM Div. Agent for: Nufarm Limited, 2300 Frederick Avenue, Suite 208, St. Joseph, MO 64504
037425 | Pet Chemicals, P.O. 18993, Memphis, TN 3818-10993
051036 | Micro-Flo Company, LLC, 530 Oak Court Drive, Memphis, TN 38117
071532 | Biologic, Inc, Agent for: LG Life Sciences, Ltd. 115 Obtuse Hill, Brookfield, CT 06804

III. What is the Agency Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to James A. Hollins using the instructions in Unit I.C. The Agency will consider written withdrawal requests postmarked on or before applicable dates indicated in the DATES section of this notice.

V. Provisions for Disposition of Existing Stocks

The Agency has authorized the registrants to sell or distribute product under the previously approved labeling for a period of 18 months after approval of the revision, unless other restrictions have been imposed, as in special review actions.

List of Subjects

Environmental protection, Pesticides and pests.

Dated: June 8, 2004.
Arnold E. Layne,
Director, Information Resources and Services Division, Office of Pesticide Programs.

[FR Doc. 04-14833 Filed 6-29-04; 8:45 am]

BILLING CODE 6560-50-S